SECURITIES AND EXCHANGE COMMISSION

[File No. 500-1]

In the Matter of Tornado Gold International Corp., Twin Faces East Entertainment Corp., Universal Ice Blast, Inc., US Farms, Inc., US Microbics, Inc., and Visitel Network (a/k/a PRG Group, Inc.); Order of Suspension of Trading

January 25, 2012.

It appears to the Securities and Exchange Commission that there is a lack of current and accurate information concerning the securities of Tornado Gold International Corp. because it has not filed any periodic reports since the period ended June 30, 2008.

It appears to the Securities and Exchange Commission that there is a lack of current and accurate information concerning the securities of Twin Faces East Entertainment Corp. because it has not filed any periodic reports since the period ended June 30, 2006.

It appears to the Securities and Exchange Commission that there is a lack of current and accurate information concerning the securities of Universal Ice Blast, Inc. because it has not filed any periodic reports since the period ended June 30, 2004.

It appears to the Securities and Exchange Commission that there is a lack of current and accurate information concerning the securities of US Farms, Inc. because it has not filed any periodic reports since the period ended September 30, 2008.

It appears to the Securities and Exchange Commission that there is a lack of current and accurate information concerning the securities of US Microbics, Inc. because it has not filed any periodic reports since the period ended June 30, 2007.

It appears to the Securities and Exchange Commission that there is a lack of current and accurate information concerning the securities of Visitel Network, Inc. (a/k/a PRG Group, Inc.) because it has not filed any periodic reports since the period ended September 30, 1995.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on January 25, 2012, through 11:59 p.m. EST on February 7, 2012.

By the Commission.
Jill M. Peterson,
Assistant Secretary.

[FR Doc. 2012-1903 Filed 1-25-12; 11:15 am]

BILLING CODE 8011-01-P